DEPARTMENT OF THE INTERIOR

National Park Service

[NPS-WASO-NAGPRA-NPS0031402; PPWOCRADN0-PCU00RP14.R50000]

Notice of Intent To Repatriate Cultural Items: Buffalo History Museum, Buffalo, NY

AGENCY: National Park Service, Interior.

ACTION: Notice.

SUMMARY: The Buffalo History Museum (previously known as the Buffalo Historical Society), in consultation with the appropriate Indian Tribes or Native Hawaiian organizations, has determined that the cultural item listed in this notice meets the definition of cultural patrimony. Lineal descendants or representatives of any Indian Tribe or Native Hawaiian organization not identified in this notice that wish to claim this cultural item should submit a written request to the Buffalo History Museum. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Buffalo History Museum at the address in this notice by March 11, 2021.

ADDRESSES: Walter Mayer, Sr. Director of Collections, Buffalo History Museum, 1 Museum Court, Buffalo, NY 14216, telephone (716) 873-9644 Ext. 402, email wmayer@buffalohistory.org.

SUPPLEMENTARY INFORMATION: Notice is here given in accordance with the Native American Graves Protection and Repatriation Act (NAGPRA), 25 U.S.C. 3005, of the intent to repatriate a cultural item under the control of the Buffalo History Museum, Buffalo, NY, that meets the definition of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 1898, the Buffalo Historical Society (now known as The Buffalo History Museum), purchased a peace medal (commonly known as the Red Jacket Peace Medal) that was once owned by the Seneca chief and orator Red Jacket, a member of the Wolf Clan. The peace medal was presented to Red Jacket by President Washington in Philadelphia, in 1792, when representatives of the Six Nations of the Iroquois Confederacy had gathered, at President Washington's request, to discuss future relationships between the United States and the Six Nations. Upon Red Jacket's death, the medal passed to his nephew, James Johnson. When Johnson died, the medal passed to Ely S. Parker. Parker was the last Seneca to have possession of the medal. In 1898, the Society purchased the medal from Ely S. Parker's widow, Minnie Parker.

Based on consultation with the Seneca Nation of Indians, the Buffalo Historical Society has determined that, as the Red Jacket Peace Medal was gifted as a symbol of peace, friendship, and enduring relationship between the United States and the Seneca Nation, it is an object of cultural patrimony.

Determinations Made by the Buffalo History Museum

Officials of the Buffalo History Museum have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Seneca Nation of Indians (previously listed as Seneca Nation of New York).

Additional Requestors and Disposition

Lineal descendants or representatives of any Indian Tribe or Native Hawaiian organization not identified in this notice that wish to claim this cultural item should submit a written request with information in support of the claim to Walter Mayer, Sr. Director of Museum Collections, Buffalo History Museum, 1 Museum Court, Buffalo, NY 14216, telephone (716) 873-9644 Ext. 402, email wmayer@buffalohistory.org, by March 11, 2021. After that date, if no additional claimants have come forward, transfer of control of the object of cultural patrimony to the Seneca Nation of Indians (previously listed as Seneca Nation of New York) may proceed.

The Buffalo History Museum is responsible for notifying the Seneca Nation of Indians (previously listed as Seneca Nation of New York) that this notice has been published.

Dated: January 15, 2021.
Melanie O'Brien,
Manager, National NAGPRA Program.

[FR Doc. 2021-02611 Filed 2-8-21; 8:45 am]

BILLING CODE 4312-52-P